DEPARTMENT OF EDUCATION

[CFDA No. 84.215L]

Smaller Learning Communities Grant Program; Notice Inviting Applications for New Awards for Fiscal Year (FY) 2000 Funds

Note to Applicants: This notice is a complete application package. Together with the statute authorizing these grants and the Education Department General Administrative Regulations (EDGAR), this notice contains all of the information, application forms, and instructions needed to apply for a Smaller Learning Communities planning or implementation grant under this competition. These grants are authorized by title X, part A, section 10105 of the Elementary and Secondary Education Act of 1965 (ESEA) (20 U.S.C. 8005).

Purpose of Program: The Smaller Learning Communities grant program will support the development of small, safe, and successful learning environments in large high schools that ensure all students graduate with the knowledge and skills necessary to make successful transitions to college and careers, and to be good citizens. “Large high schools” are schools that include grades 11 and 12 and enroll at least 1,000 students in grades 9 and above.

Eligible Applicants: Local educational agencies (LEAs) applying on behalf of large high schools or large high schools funded by the Bureau of Indian Affairs (BIA schools), are eligible to apply for a planning or implementation grant. Applicants may work independently or in partnership with other public agencies or private non-profit organizations or both. A group of LEAs may also apply following procedures specified in 34 CFR 75.127-129 of EDGAR. Applicants may establish their eligibility using enrollment data for the current school year or the most recently completed school year.

Deadline for Transmittal of Applications: July 17, 2000.

Deadline for Intergovernmental Review: September 14, 2000.

Estimated Available Funds: $45,000,000.

Note: The Secretary intends to reserve $2,250,000 from these funds for evaluation, technical assistance, and school networking activities.

Types and Ranges of Awards: The Secretary will award both planning grants and implementation grants under this notice. LEAs may apply on behalf of one or more eligible schools. LEAs may also propose a district-wide strategy directed at eligible high schools. For a one-year planning grant, an LEA may request, on behalf of a single school, $25,000 to $50,000 per project. LEAs applying on behalf of a group of eligible schools or that intend to develop a district-wide strategy may request funds up to $250,000 per planning grant. For a three-year implementation grant, an LEA may request, on behalf of a single school, $250,000 to $500,000 per project. LEAs applying on behalf of a group of eligible schools or that intend to implement a district-wide strategy may request funds up to $2,500,000 per implementation grant. LEAs may submit multiple applications targeting separate schools within each funding category. However, an LEA may not apply on behalf of an eligible high school in more than one application. The total amount an LEA may receive through any combination of awards made under this program may not exceed $4 million.

Note: The size of awards will be based on a number of factors. These factors include the scope, quality, and comprehensiveness of the proposed program and the size of the population to be served.

Estimated Number of Awards: The Secretary is not estimating the number of awards under each category of grants available through this notice.

Project Period: Planning grants will fund activities up to 12 months. Implementation grants will fund activities up to 36 months.

Note: Applicants applying for implementation grants are required to provide detailed budget information for the total grant period requested. To provide the applicant maximum flexibility regarding start-up and maintenance costs, the Secretary anticipates awarding the entire grant amount for both planning and implementation at the time of the initial award.

Page Limits: Applicants are strongly encouraged to limit the application narrative to no more than 20 to 25 double-spaced, standard-type pages.

The following standards are preferred: (1) A “page” is 8.5″ × 11″ (one side only) with one-inch margins (top, bottom, and sides). (2) All text in the application narrative, including titles, headings, footnotes, quotations, references, and captions, as well as all text in charts, tables, figures, and graphs, must be double-spaced (no more than three lines per vertical inch). If using a proportional computer font, applicants are requested to use a 12-point font.

The page limit does not apply to the cover sheet, the one-page abstract, budget section, appendices, and forms and assurances. However, all of the application narrative must be included in the narrative section.

Applicable Regulations: The Education Department General Administrative Regulations (EDGAR) in 34 CFR parts 75, 77, 79, 80, 81, 82, 85, 86, 97, 98 and 99.

SUPPLEMENTARY INFORMATION: The recent violent incidents in a number of schools across the country deeply disturbed Americans. The incidents reinforced what many educational practitioners and researchers were already highlighting as a problem—the impersonal nature of large high schools that leave too many young people feeling apathetic, isolated, and alienated from their peers, schools, and communities.

Research on school size has created a widespread movement towards smaller schools and the creation of smaller learning communities within large high schools. In 1996, the National Association of Secondary School Principals, in conjunction with the Carnegie Foundation for the Advancement of Teaching, issued a report entitled, “Breaking Ranks: Changing an American Institution.” The report recommends that high schools break into units of no more than 600 students: (1) To ensure that teachers and students get to know and care about each other; and (2) to provide teachers with opportunities to use a variety of instructional strategies that accommodate and engage individual learners.

These recommendations are supported further by a growing body of research on the association between smaller learning environments and positive student outcomes. In general, smaller learning communities have been found to have positive effects on students' relationships with peers, teachers, and staff, and their extracurricular participation. Students participating in smaller learning communities also have been found to have better attendance, higher course passage rates, and fewer suspensions compared to demographically similar students in more traditional high school settings (Oxley, 1990; Fine 1994). Further studies suggest that, for example, the benefits of smaller schools may include higher rates of school satisfaction, school completion, or postsecondary enrollment (Raywid 1995; Klonsky 1995; Funk and Bailey 1999; Kemple and Snipes 2000). New research suggests that smaller school size may even help compensate for the adverse effects of poverty on student achievement in elementary, middle, and secondary schools (Rural School and Community Trust: http://ruralchallengepolicy.org.

National statistics show that approximately 70 percent of American high school students today attend schools that enroll more than 1,000 students. Nationwide, 4,500 high schools enroll 1,000 or more students. Over time, high schools have become increasingly larger. While some schools have realized the benefits of smaller learning communities and have restructured and reorganized, there are thousands of schools that have not yet begun the process of creating smaller learning communities.

Researchers have suggested that the positive outcomes associated with smaller schools stem from the schools' ability to create close, personal environments in which teachers can work collaboratively, with each other and with a small set of students, to challenge students and support learning. A variety of strategies, such as block scheduling and teacher advisories, are thought to provide important supports for smaller learning environments. Some data suggest that these approaches offer substantial advantages to both teachers and students (Ziegler 1993; Caroll 1994).

Description of Program

The Smaller Learning Communities grant program is authorized under section 10105 of part A of title X of the ESEA (see Appendix A). Title X authorizes the Secretary to support nationally significant programs and projects to: (1) Improve the quality of education; (2) assist all students in meeting challenging State content standards; and (3) contribute in achieving the National Education Goals.

The goal of the Smaller Learning Communities grant program is to encourage large high schools to undertake research-based strategies in developing, implementing, and expanding smaller learning communities. Strategies for recasting large schools as a set of small learning communities are described in the Conference Report for the Consolidated Appropriations Act, 2000 [Pub. L. 106-113, H.R. Conference Report No. 106-479, at 1240(1999)]. These strategies include but are not limited to—(1) Establishing small learning clusters, “houses,” career academies, magnet schools, or other approaches to creating schools within schools;

(2) Block scheduling;

(3) Personal adult advocates, teacher-advisory systems, and other mentoring strategies;

(4) Reducing teaching loads; and

(5) Other innovations designed to create a more personalized high school experience for students and improve student achievement.

The definitions and terms used above are expanded in Appendix B.

Application Content

Title X [part A, section 10105 (a)] of ESEA specifies particular content that all Smaller Learning Communities grant applications must include (this is called “required content”). Each of these required items has been incorporated into the selection criteria that are published in this notice. Required content is repeated in Appendix C.

Title X [part A, section 10105 (b)] also provides examples of activities that may be funded by a grant, and thus may be included in a proposal. These examples are listed in Appendix D as “allowable activities.”

The Smaller Learning Communities grant program will award two types of grants—planning grants and implementation grants.

Planning Grants

The purpose is to provide grantees the opportunity to develop a plan for recasting a large high school (or high schools) as a set of small learning communities. Thus, the planning and development activities described in the applicant's planning grant proposal shall result in the production and submission of a viable implementation plan, including the elements described in Appendix C of this notice. Schools with a viable implementation plan will be able to take the next step, which is to implement the plan and create the smaller learning communities. The Department may hold future competitions for implementation grants limited to LEAs that have successfully developed implementation plans through planning grants.

Planning grants will also describe schools' overall need for the project.

Implementation Grants

To apply for implementation funds, applicants must be prepared either to implement a new smaller learning community program within each targeted high school, or to expand an existing smaller learning community program. Thus, applications for an implementation grant must describe a viable implementation plan. Implementation grants will also describe schools' overall need for the project.

Reporting Requirements and Expected Outcomes

Both planning and implementation grant applicants must describe their:

(a) Project goals,

(b) Measurable objectives,

(c) Measures of student outcomes and performance, and

(d) Indicators to gauge progress toward meeting project goals and objectives. These elements form the basis for a student database and reporting system.

The Secretary requires grantees with implementation grants to have a data collection system with the capacity to produce annual performance reports. These reports will record the grantee's yearly progress toward expected programmatic outcomes. The Secretary will use these reports to measure the success of the grantee's project, as well as the progress of the Department of Education's Smaller Learning Communities grant program nationwide. Outcome and performance measures that will be required include:

(1) Number of students scoring at each proficiency level for each subject measured by the State (or district) assessment.

(2) Number of students taking the SAT and ACT, and their average scores.

(3) Number of students who take courses for which they receive both high school and college credit.

(4) Number of students completing high school.

(5) Number of students involved in extracurricular activities.

(6) Number of incidents of student violence.

(7) Number of expulsions, suspensions or other disciplinary actions.

(8) Number of reported incidents of student alcohol or drug use.

(9) Overall reported average daily attendance for October.

Note: The actual performance report form is undergoing separate OMB review.

Implementation grant applicants will be required to submit, with their applications, initial baseline data for each measure of student outcomes and performance named above. Baseline data will describe the same school year upon which grant eligibility has been established. These data may be reported in either the application narrative or in an appendix. Upon notification of award, grantees with implementation grants will be required to submit student outcome and performance data for three years preceding the baseline year.

Outreach Sessions

To share information about the Smaller Learning Communities grant program, the Department held a series of regional-based outreach sessions. Information disseminated at these sessions is available on the website listed below. The Department will also sponsor a satellite teleconference and webcast on June 8, 2000 from 12:00 to 1:30 p.m. EST to help applicants prepare for this grant competition. To register for this event, applicants are asked to visit our web page, at the U.S. Department of Education site. It follows: http://www.ed.gov/offices/OESE/SLCP.

Competition Requirements

Waiver of Proposed Rulemaking: Under the Administrative Procedure Act (5 U.S.C. 553), the Department generally offers interested parties the opportunity to comment on proposed rules. However, section 437(d)(1) of the General Education Provisions Act (GEPA) exempts from this requirement rules that apply to the first competition under a new or substantially revised program. The Smaller Learning Communities grant program was funded for the first time under the fiscal year 2000 appropriation for Labor, Health and Human Services and Education (Public Law 106-113). As this competition is the first competition under the program, it qualifies as a new competitive grants program. The Secretary, in accordance with section 437(d)(1) of GEPA, to ensure timely awards, has decided to forgo public comments with respect to the requirements in this notice.

Priorities: The Secretary is particularly interested in receiving applications that meet the following invitational priorities. However, an application that meets the invitational priorities will receive no competitive or absolute preference over other applications (34 CFR 75.105(c)(1)).

(1) The Secretary invites applications that plan to develop, implement, or expand a smaller learning community in high schools currently enrolling 2,500 or more students in grades 9 and above. Applicants may provide data reflecting enrollment during the current school year or the most recently completed school year.

(2) The Secretary invites applications that plan to develop, implement, or expand a smaller learning community in high schools residing within designated Empowerment Zones or Enterprise Communities. Applicants must provide proof of such designation within their application.

Selection Criteria

Under the Smaller Learning Communities grant program competition announced in this notice, a technical review panel will make a careful evaluation of applications. Each panelist will evaluate the applications against the criteria listed below. The panel results are advisory in nature and not binding on the Secretary. The Secretary will use the following selection criteria and associated point values in evaluating applications for planning and implementation grants:

(a) The maximum score for all of these criteria is 100 points.

(b) The maximum score for each criterion is indicated in parentheses. Within each criterion, the Secretary evaluates each factor equally.

Planning Grants

(a) Need for the project. (25 points) In determining the need for the proposed project, the Secretary considers the following factors:

(1) The description and documentation of the need for the services to be provided and the need for the activities to be carried out by the proposed project, in targeted schools, consistent with the social and educational problems and issues generally associated with the impersonal nature of large high schools. Need may consider factors such as: enrollment; attendance and drop-out rates, incidents of violence, drug and alcohol use and disciplinary actions; percentage of students who pass graduation exams or local assessments, enroll in advanced level courses, register for college entrance exams and matriculate into postsecondary institutions or training; percentage of students that have limited English proficiency, that are considered migrant youth, that come from low-income families or are otherwise considered disadvantaged; the applicant's fiscal capacity to fund programs described here without Federal assistance; or other local need factors as described by the applicant.

(2) The extent to which specific gaps or weaknesses (including the nature and magnitude of those gaps and weaknesses) in services, infrastructure, or opportunities have been identified and will be addressed by the proposed project.

(b) Foundation for planning. (15 points) In determining the merit of the proposed process for developing a viable implementation plan, the Secretary considers the extent to which the following activities:

(1) Involve and document the support of stakeholders, both within the school community (e.g., administrators, teachers, other staff, students, and parents) and within the greater community (e.g., representatives of institutions of higher education, employers, workforce investment boards, youth councils, and community-based organizations).

(2) Collect and use data that describe school needs.

(3) Use research-based findings in the proposed restructuring of the learning environment.

(c) Feasibility and soundness of the planning process. (50 points) In determining the feasibility and soundness of the planning process as a means toward producing a viable implementation plan, the Secretary considers the extent to which the planned activities:

(1) Are based on a commitment to meet the needs of all students and ensure the successful completion of their education or career goals.

(2) Will establish smaller learning communities having clear goals and objectives connected to a mission statement and to student needs.

(3) Are likely to prepare the applicant to implement smaller learning communities.

(4) Follow a timeline appropriate to the goals and outcomes to be achieved.

(5) Involve key personnel who are qualified to undertake project activities.

(d) Commitment of resources to the planning effort. (10 points) In determining the commitment of resources to the planning effort the Secretary will consider the extent to which:

(1) The requested budget adequately supports the proposed activities.

(2) State, local, and other Federal funds will be used to support the development of the plan.

(3) The administrative and managerial relationship between the LEA and the smaller learning community demonstrates a commitment to the concept of a smaller learning community and the planning process.

Implementation Grants

(a) Need for the project. (25 points) In determining the need for the proposed project, the Secretary considers the following factors:

(1) The description and documentation of the need for the services to be provided and the need for the activities to be carried out by the proposed project, in targeted schools, consistent with the social and educational problems and issues generally associated with the impersonal nature of large high schools. Need may consider factors such as: enrollment; attendance and drop-out rates, incidents of violence, drug and alcohol use and disciplinary actions; percentage of students who pass graduation exams or local assessments, enroll in advanced level courses, register for college entrance exams and matriculate into postsecondary institutions or training; percentage of students that have limited English proficiency, that are considered migrant youth, that come from low-income families or are otherwise considered disadvantaged; the applicant's fiscal capacity to fund programs described here without Federal assistance; or other local need factors as described by the applicant.

(2) The extent to which specific gaps or weaknesses (including the nature and magnitude of those gaps or weaknesses) in services, infrastructure, or opportunities have been identified and will be addressed by the proposed project.

(b) Foundation for implementation. (10 points) In determining the quality of the implementation plan, the Secretary considers the extent to which the implementation process:

(1) Substantively involves and documents the support of stakeholders both within the school community (e.g., administrators, teachers, other staff, students, and parents) and within the greater community (e.g., such as representatives of institutions of higher education, employers, workforce investment boards, youth councils, and community-based organizations).

(2) Uses research-based findings and outside technical assistance in the proposed restructuring.

(c) Feasibility and soundness of the plan (45 points) In determining the quality of the proposed project, the Secretary considers the extent to which:

(1) The goals and objectives of the smaller learning communities correspond to identified needs, to a mission statement, and are written in terms of student outcomes, including achievement.

(2) The proposed smaller learning communities will enable all students to reach challenging State content standards and performance standards, ensuring the successful completion of high school and preparation for college or a career.

(3) The curriculum and instructional practices within each smaller learning community are aligned to its goals and to its theme or emphases, where they exist.

(4) Professional development activities offered to teachers, non-instructional school staff, and others are aligned with smaller learning community goals.

(5) The applicant provides a rationale for—

• Identifying grade levels and ages of students to be served by the smaller learning community; and

• The methods and timetable for placing students in the smaller learning community.

Note: Students are not to be placed according to ability, performance, or any other measure of merit.

(6) The adequacy of the management plan to achieve the objectives of the proposed project on time and within budget, including—

• The past experience, training, and clearly defined responsibilities of personnel who have key roles in carrying out the project; and

• The timelines and milestones for accomplishing project tasks.

(d) Quality of the project evaluation. (10 points) In determining the quality of the evaluation, the Secretary considers whether the applicant has designed an effective method for:

(1) Collecting student performance data for—

• Required annual performance reports;

• Baseline data (refer to “Reporting Requirements and Expected Outcomes”) and data for three years preceding the baseline (the latter due upon award); and

• Monitoring and understanding changes in student outcomes for continuous improvement.

(2) Describing, on an annual basis, the smaller learning communities and related program changes undertaken to make the smaller learning communities safe and successful. This information will be reported in the Annual Performance Report.

(e) Adequacy of resources. (10 points) In determining the adequacy of resources for the proposed project, the Secretary considers the extent to which:

(1) The State, local, and other Federal funds will be used to support the implementation of the plan.

(2) The applicant will limit equipment and other purchases in order to maximize the amounts spent on delivery of services to students.

(3) The applicant demonstrates a commitment to sustaining the project beyond the period covered by the Federal grant.

Intergovernmental Review of Federal Programs

This program is subject to the requirements of Executive Order 12372 (Intergovernmental Review of Federal Programs) and the regulations in 34 CFR part 79.

The objective of the Executive order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the Executive order.

If you want to know the name and address of any State Single Point of Contact (SPOC), see the list published in the Federal Register on January 21, 2000 (65 FR 3552); or you may view the latest SPOC list on the OMB Web site at the following address: http://www.whitehouse.gov/omb/grants.

In States that have not established a process or chosen a program for review, State, area-wide, regional, and local entities may submit comments directly to the Department.

Any State Process Recommendation and other comments submitted by a State Single Point of Contact and any comments from State, area-wide, regional, and local entities must be mailed or hand-delivered by the date indicated in this notice to the following address: The Secretary, E.O. 12372-CFDA #84.215L, U.S. Department of Education, Room 7E200, 400 Maryland Avenue, SW., Washington, DC 20202-0125.

We will determine proof of mailing on the same basis as applications (see 34 CFR 75.102). Recommendations or comments may be hand-delivered until 4:30 p.m. (Washington, D.C. time) on the date indicated in this notice.

Please Note That the Above Address is not the Same Address as the One to Which the Applicant Submits its Completed Application. Do Not Send Applications to the Above Address.

Instructions for Transmittal of Applications

(a) If you want to apply for a grant, you must—

(1) Mail the original and two copies of the application on or before the deadline date to: U.S. Department of Education, Application Control Center, Attention: (CFDA #84.215L), Room 3633, Regional Office Building #3, 7th and D Streets, SW, Washington, DC 20202-4725 or

(2) Hand deliver the original and two copies of the application by 4:30 p.m. (Washington, D.C. time) on or before the deadline date to: U.S. Department of Education, Application Control Center, Attention: (CFDA #84.215L), Room 3633, Regional Office Building #3, 7th and D Streets, SW, (D Street, southwest entrance), Washington, D.C.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Note: (1) The U.S. Postal Service does not uniformly provide a dated postmark. Before relying on this method, an applicant should check with its local post office.

(d) The Application Control Center will mail a Grant Application Receipt Acknowledgment to you. If you do not receive the notification of application receipt within 15 days from the date of mailing the application, you should call the U.S. Department of Education Application Control Center at (202) 708-9494.

(e) The applicant must indicate on the envelope and—if not provided by the Department—in Item 3 of the Application for Federal Assistance (ED 424) the CFDA number for this competition: CFDA 84.215L.

Application Instructions and Forms

The appendices to this notice contain all required forms and instructions, including instructions for preparing the application narrative, a statement regarding estimated public reporting burden, a notice to applicants regarding compliance with section 427 of the General Education Provisions Act (GEPA), various assurances and certifications, and a checklist for applicants.

To apply for an award under this competition, your application must be organized in the following order and include the following four parts. The parts and additional materials are as follows:

Part I: Coversheet for the Smaller Learning Communities (SLC) Grant Program Application Package (Appendix F).

Part II: Application for Federal Assistance (ED 424, Exp. 06/30/2001) and instructions.

Part III: Budget Information-Non-Construction Programs (ED Form No. 524) and instructions. An applicant for a multi-year project must provide a budget narrative that provides budget information for each budget period of the proposed project period.

Part IV: Application Narrative.

In preparing the narrative, applicants should clearly keep in mind the selection criteria that will be used to evaluate applications, and ensure that each of these criteria are addressed. Section 8005(a) of the statute describes additional information that applicants must address in their applications. Please refer to the statute, which is provided in Appendix A of this application package.

Part V: Appendices.

Applications may contain appendices that are excluded from the 20-25 page limitation. However, appendices may be used only to explicate or corroborate points already made clear in the text. For example, implementation grant applicants may place in an appendix the baseline data used to address the selection criterion “Quality of the project evaluation.”

Part VI: Assurances and Certifications:

a. Assurances-Non-Construction Programs (Standard Form 424B).

b. Certifications Regarding Lobbying; Debarment, Suspension, and Other Responsibility Matters; and Drug-Free Workplace Requirements (ED 80-0013) and instructions.

c. Certifications regarding Debarment, Suspension, Ineligibility and Voluntary Exclusion-Lower Tier Covered Transactions (ED 80-0014, 9/90) and instructions.

Note: ED Form 80-0014 is intended for the use of grantees and should not be transmitted to the Department.

d. Disclosure of Lobbying Activities (Standard Form LLL) (if applicable) and instructions.

An applicant may submit information on photostatic copies of the application, budget forms, assurances, and certifications as printed in this notice in the Federal Register. However, the application form, assurances, and certifications must each have an original signature. All applicants are required to submit ONE original signed application, including ink signatures on all forms and assurances, and TWO copies of the application, one bound and one unbound copy suitable for photocopying. Please mark each application as “original” or “copy.” To aid with the review of applications, the Department encourages applicants to submit three additional paper copies and one electronic copy (in Department of Education standard program format) of the application. The Department will not penalize applicants who do not provide additional copies. No grant may be awarded unless a completed application form, including the signed assurances and certifications, has been received.

FOR FURTHER INFORMATION CONTACT: John De Cleene or Todd May, Smaller Learning Communities Grant Program, U.S. Department of Education, 400 Maryland Avenue, SW, Washington, DC 20202. Telephone: (202) 260-2195 (John De Cleene) or (202) 260-0960 (Todd May). E-mail: smallerlearningcommunities@ed.gov.

Individuals who use a telecommunications device for the deaf (TDD) may call the Federal Information Relay Service (FIRS) at 1-800-877-8339. Individuals with disabilities may obtain this notice in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.html

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 8005.

Dated: May 11, 2000.
Michael Cohen,
Assistant Secretary for Elementary and Secondary Education.
Patricia McNeil,
Assistant Secretary for Vocational and Adult Education.

Appendix A.—ESEA, Title X, Part A

Sec. 10105. Smaller Learning Communities

(a) In General.—Each local educational agency desiring a grant under this section shall submit an application to the Secretary at such time, in such manner, and accompanied by such information as the Secretary may require. Each such application shall describe—

(1) Strategies and methods the applicant will use to create the smaller learning community or communities;

(2) Curriculum and instructional practices, including any particular themes or emphases, to be used in the learning environment;

(3) The extent of involvement of teachers and other school personnel in investigating, designing, implementing and sustaining the smaller learning community or communities;

(4) The process to be used for involving students, parents and other stakeholders in the development and implementation of the smaller learning community or communities;

(5) Any cooperation or collaboration among community agencies, organizations, businesses, and others to develop or implement a plan to create the smaller learning community or communities;

(6) The training and professional development activities that will be offered to teachers and others involved in the activities assisted under this part;

(7) The goals and objectives of the activities assisted under this part, including a description of how such activities will better enable all students to reach challenging State content standards and State student performance standards;

(8) The methods by which the applicant will assess progress in meeting such goals and objectives;

(9) If the smaller learning community or communities exist as a school-within-a-school, the relationship, including governance and administration, of the smaller learning community to the rest of the school;

(10) A description of the administrative and managerial relationship between the local educational agency and the smaller learning community or communities, including how such agency will demonstrate a commitment to the continuity of the smaller learning community or communities, including the continuity of student and teacher assignment to a particular learning community;

(11) How the applicant will coordinate or use funds provided under this part with other funds provided under this Act or other Federal laws;

(12) Grade levels or ages of students who will participate in the smaller learning community or communities; and

(13) The method of placing students in the smaller learning community or communities, such that students are not placed according to ability, performance or any other measure, so that students are placed at random or by their own choice, not pursuant to testing or other judgments.

(b) Authorized Activities.—Funds under this section may be used—

(1) To study the feasibility of creating the smaller learning community or communities as well as effective and innovative organizational and instructional strategies that will be used in the smaller learning community or communities;

(2) To research, develop and implement strategies for creating the smaller learning community or communities, as well as effective and innovative changes in curriculum and instruction, geared to high State content standards and State student performance standards;

(3) To provide professional development for school staff in innovative teaching methods that challenge and engage students to be used in the smaller learning community or communities; and

(4) To develop and implement strategies to include parents, business representatives, local institutions of higher education, community-based organizations, and other community members in the smaller learning communities, as facilitators of activities that enable teachers to participate in professional development activities, as well as to provide links between students and their community.

Appendix B.—Definitions and Terms

Definition. The following definition is used in this notice:

Magnet School means a public school or education center that offers a special curriculum capable of attracting substantial numbers of students of different racial backgrounds.

Terms. The following terms are used in this notice:

Flexible Scheduling is a means of reconfiguring the school day. For example, block courses may be scheduled for two or more continuous class periods or days to allow students greater time for laboratory or project-centered work, field trips or work-based learning, and special assemblies or speakers.

Career Academies are typically schools-within-schools that offer students academic programs organized around broad career themes. Often integrating classroom instruction with work-based learning, academies try to equip students with the necessary skills for both workforce entry and postsecondary education.

Career Clusters generally refer to groupings formed around broad-based industry areas and address all types of skills, ranging from entry-level to advanced practice. A cluster represents those industries or career areas that have a high degree of commonality in work functions, knowledge, or skills.

Houses generally are organizational arrangements that assign students and teachers to sub-schools. Students take some or all courses with their house members and from their house teachers. Each house typically has its own student activity program, student government, disciplinary policies, and social activities. Houses may be year-long (within a grade) or multi-year (combine grades).

Mentoring Programs designate adults to act as advocates for students. Teachers, counselors, and other school staff (as well as community volunteers or employees at work-based learning sites) serve as mentors, working in consultation with classroom teachers, counselors, and related service personnel to help students individually or in small groups, on a regular basis over an extended period of time.

Schools-within-Schools are autonomous programs housed within a larger school building. These programs report directly to the district rather than to the host school's principal and are formally authorized by the superintendent or board of education. Schools-within-schools have their own culture, program, staff, students, budget, and school space.

Teacher Advisories are similar to mentoring programs. They organize adults to personalize the high school experience and support academic achievement. Some schools and districts establish advisory classes that meet weekly; others schedule students for less formal one-on-one or group time with teachers. Advisory activities may include helping students develop personal learning plans, introducing students to career clusters, helping students select courses, and working with students on postsecondary plans and pre-employment skills.

Appendix C.—Required Content

Planning Grants

Planning grants will describe the planning and development activities that will be undertaken to produce and submit a viable Implementation Plan, as described below and in section 10105(a) of the ESEA (Appendix A).

Implementation Grants

Implementation Plans will describe—

(a) The smaller learning communities the applicant will create.

(b) Additional strategies the applicant will combine with the smaller learning communities so that they are safe and successful. “Additional strategies” may include, for example, new instructional practices, curriculum, or themes; or they may include a process for involving parents in their students' education.

(c) How the proposed collection of strategies (the smaller learning communities along with other proposed strategies)—

(1) Address identified school needs;

(2) Are based on reliable research and effective practice; and

(3) Will enable all students to meet challenging standards.

(d) The extent of involvement of teachers and other personnel in investigating, designing, implementing, and sustaining the smaller learning community or communities;

(e) The process to be used for involving students, parents, and other stakeholders in the development and implementation of the smaller learning community or communities;

(f) Any cooperation or collaboration among community agencies, organizations, businesses, and others to develop or implement a plan to create the smaller community or communities;

(g) The training and professional development activities that will be offered to teachers and others involved in the activities assisted under part A of title X of the ESEA;

(h) The goals and objectives of the activities assisted under part A of Title X of the ESEA, including a description of how such activities will help enable all students to reach challenging State content standards and State student performance standards;

(i) The methods by which the applicant will assess progress in meeting such goals and objectives;

(j) If the smaller learning community or communities exist as a school-within-a-school, the relationship, including the governance and administration, of the smaller learning community to the rest of the school;

(k) The administrative and managerial relationship between the LEA and the smaller learning community or communities, including how the LEA will demonstrate a commitment to the continuity of the smaller learning community or communities, including the continuity of student and teacher assignment to a particular learning community;

(l) How the applicant will coordinate or use funds provided under part A of title X of the ESEA with other funds provided under the ESEA or other Federal laws; and

(m) The grade levels or ages of students who will participate in the smaller learning community or communities; and

(n) The method of placing students in the smaller learning community or communities, such that students are not placed according to ability, performance, or any other measure of merit, so that students are placed at random or by their own choice, not pursuant to testing or other judgments.

Appendix D.—Allowable Activities

Planning Grants

Examples of activities that may be conducted under a planning grant include—

(1) Studying the feasibility of recasting a large school as a set of smaller learning communities and investigating instructional strategies that are appropriate for smaller learning communities;

(2) Building consensus among key stakeholders and supporting planning and development activities to provide guidance in creating the smaller learning community;

(3) Assessing staff training and development needs for participation in and management of the smaller learning community;

(4) Developing strategies to include parents, business representatives, local institutions of higher education, community-based organizations, and other community members in the smaller learning communities, as facilitators of activities that enable teachers to participate in professional development activities, as well as to provide links between students and their community;

(5) Initiating pilot projects to test key components of the program design and data collection methods;

(6) Analyzing statutory, regulatory, and administrative barriers to the creation of the smaller learning environment; and

(7) Preparing the implementation plan required for submission of a proposal for a future implementation grant.

Implementation Grants

Examples of activities that may be conducted under an implementation grant include—

(1) Implementing and expanding strategies for creating the smaller learning community or communities, as well as effective and innovative changes in curriculum and instruction, geared to high State content standards and performance standards;

(2) Providing professional development for school staff in innovative teaching methods that challenge and engage students in the smaller learning community or communities;

(3) Implementing and expanding strategies to include parents, business representatives, local institutions of higher education, community-based organizations, and other community members in the smaller learning communities, as facilitators of activities that enable teachers to participate in professional development activities, as well as to provide links between students and their community;

(4) Implementing and expanding strategies that benefit eligible large schools throughout the applicant's district. Examples of these may include implementing a district-wide ninth grade academy, teacher advisory program, or district-wide mentoring program;

(5) Obtaining the services of outside experts in the implementation of the smaller learning community. Assistance may include curriculum development, leadership strategies, community consensus building, data collection, or evaluation design;

(6) Providing stipends and release time for teachers, administrators, and community members involved in the implementation or expansion of the smaller learning community; and

(7) Implementing academic and social support systems for students attending the smaller learning community.

Appendix E.—Instructions for the Application Narrative

The narrative is the section of the application where statutory application requirements and the selection criteria used by reviewers in evaluating the application are addressed. The narrative must encompass each function or activity for which funds are being requested. Before preparing the application narrative, you should read carefully the statute, the description of the program, and the selection criteria we use to evaluate applications.

You should note the preferable page limits for the application narrative stated in this notice under Page Limits.

1. Begin with a one-page Abstract summarizing the proposed Smaller Learning Communities project, including a short description of the population to be served by the project and, if available, data on project participants' overall need, demographics and race/ethnicity. Also include a description of project objectives and activities.

2. Include a table of contents listing the parts of the narrative in the order of the selection criteria and the page numbers where the parts of the narrative are found. Be sure to number the pages.

3. Describe fully the proposed project in light of the selection criteria in the order in which the criteria are listed in the application package. Do not simply paraphrase the criteria.

4. Provide the following in response to the attached “Notice to all Applicants:” (1) A reference to the portion of the application in which information appears as to how you are addressing steps to promote equitable access and participation, or (2) a separate statement that contains that information.

5. If the application is from a group, attach the group's agreement. When applying for funds as a group, such as a consortium, individual eligible applicants must enter into an agreement signed by all members of the group. The group's agreement must detail the activities each member of the group plans to perform, and must bind each member to every statement and assurance made in the group's application. (The designated applicant must submit the group's agreement with its application.)

6. You may include supporting documentation as appendices to the narrative. This material should be concise and pertinent to the competition. Note that we consider only information contained in the application when ranking applications. Letters of support sent separately from the formal application package are not considered in the review by the technical review panels.

7. Attach copies of all required assurances and forms.

Estimated Public Reporting Burden

According to the Paperwork Reduction Act of 1995, you are not required to respond to a collection of information unless it displays a valid OMB Control Number. The valid OMB control number for this information collection is To be inserted],(Expiration Date: [To be inserted]). The time required to complete this information collection is estimated to average sixty-five (65) hours per response, including the time to review instructions, search existing data resources, gather the data needed, and complete and review the information collection. If you have any comments concerning the accuracy of the time estimate or suggestions for improving this form, please write to: Diane Austin, Smaller Learning Communities Grant Program, U.S. Department of Education, 400 Maryland Avenue SW, FB-6, 5C149, Washington, DC 20202-6200.

If you have comments or concerns regarding the status of your individual submission of this form, write directly to: Diane Austin, Smaller Learning Communities Grant Program, U.S. Department of Education, 400 Maryland Avenue SW, FB-6, 5C149, Washington, DC 20202-6200.

Appendix F.—Application Coversheet

Coversheet: Smaller Learning Communities (SLC) Grant Program Application Package

1. Type of grant applied for. (Check just one.)

__ Application for Planning Grant

__ Application for Implementation Grant

2. LEA Name and Address:

NCES District ID:

3. Name and Address of Each School Named in the Accompanying SLC Application:

1. Name:

2. Name:

3. Name:

4. Name:

5. Name:

6. Name:

(Please list any additional schools on a separate page and attach.)

Checklist for Applicants

The following forms and other items must be included in the application in the order listed below:

__1. Application cover sheet (Appendix F).

__2. Application for Federal Assistance (ED 424).

__3. Budget Information—Non-Construction Programs ED Form No. 524) and budget narrative.

__4. Application Narrative, including information that addresses section 427 of the General Education Provisions Act (see the section entitled “NOTICE TO ALL APPLICANTS”), and relevant appendices.

__5. Group agreement, if applicable.

__6. Assurances—Non-Construction Programs (SF 424B).

__7. Certifications Regarding Lobbying; Debarment, Suspension, and Other Responsibility Matters; and Drug-Free Workplace Requirements (ED 80-0013).

__8. Disclosure of Lobbying Activities (Standard Form LLL).

__9. GPRA.

[OMB Control No. 1810-0631 (exp. 10/31/2000)]

Notice to All Applicants

Thank you for your interest in this program. The purpose of this enclosure is to inform you about a new provision in the Department of Education's General Education Provisions Act (GEPA) that applies to applicants for new grant awards under Department programs. This provision is section 427 of GEPA, enacted as part of the Improving America's Schools Act of 1994 (Pub. L. 103-382).

To Whom Does This Provision Apply?

Section 427 of GEPA affects applicants for new discretionary grant awards under this program. ALL APPLICANTS FOR NEW AWARDS MUST INCLUDE INFORMATION IN THEIR APPLICATIONS TO ADDRESS THIS NEW PROVISION IN ORDER TO RECEIVE FUNDING UNDER THIS PROGRAM.

What Does This Provision Require?

Section 427 requires each applicant for funds (other than an individual person) to include in its application a description of the steps the applicant proposes to take to ensure equitable access to, and participation in, its federally assisted program for students, teachers, and other program beneficiaries with special needs.

This section allows applicants discretion in developing the required description. The statute highlights six types of barriers that can impede equitable access or participation that you may address: gender, race, national origin, color, disability, or age. Based on local circumstances, you can determine whether these or other barriers may prevent your students, teachers, etc. from equitable access or participation. Your description need not be lengthy; you may provide a clear and succinct description of how you plan to address those barriers that are applicable to your circumstances. In addition, the information may be provided in a single narrative, or, if appropriate, may be discussed in connection with related topics in the application.

Section 427 is not intended to duplicate the requirements of civil rights statutes, but rather to ensure that, in designing their projects, applicants for Federal funds address equity concerns that may affect the ability of certain potential beneficiaries to fully participate in the project and to achieve to high standards. Consistent with program requirements and its approved application, an applicant may use the Federal funds awarded to it to eliminate barriers it identifies.

What Are Examples of How an Applicant Might Satisfy the Requirement of This Provision?

The following examples may help illustrate how an applicant may comply with section 427:

(1) An applicant that proposes to carry out an adult literacy project serving, among others, adults with limited English proficiency, might describe in its application how it intends to distribute a brochure about the proposed project to such potential participants in their native language.

(2) An applicant that proposes to develop instructional materials for classroom use might describe how it will make the materials available on audio tape or in Braille for students who are blind.

(3) An applicant that proposes to carry out a model science program for secondary students and is concerned that girls may be less likely than boys to enroll in the course, might indicate how it intends to conduct “outreach” efforts to girls, to encourage their enrollment.

We recognize that many applicants may already be implementing effective steps to ensure equity of access and participation in their grant programs, and we appreciate your cooperation in responding to the requirements of this provision.

Estimated Burden Statement

According to the Paperwork Reduction Act of 1995, no persons are required to respond to a collection of information unless it displays a valid OMB control number. The valid OMB control number for this information collection is 1810-0631 (Exp. 10/31/2000). The time required to complete this information collection is estimated to vary from 1 to 3 hours per response, with an average of 1.5 hours, including the time to review instructions, search existing data resources, gather and maintain the data needed, and complete and review the information collection. If you have any comments concerning the accuracy of the time estimate(s) or suggestions for improving this form, please write to: U.S. Department of Education, Washington, DC 20202-4651.

BILLING CODE 4000-01-P

[FR Doc. 00-12368 Filed 5-16-00; 8:45 am]

BILLING CODE 4000-01-U